DEPARTMENT OF AGRICULTURE

Forest Service

Dixie National Forest; Tropic To Hatch 138kV Transmission Line Project, Correction to Include Notice of Intent To Amend the Bureau of Land Management, Grand Staircase-Escalante National Monument Management Plan

AGENCY: Forest Service, USDA and Bureau of Land Management, USDI.

ACTION: Correction to notice of intent.

SUMMARY: Pursuant to section 102(2) of the National Environmental Policy Act of 1969, 40 Code of Federal Regulations (CFR) subparts 1500-1508, and 43 CFR subpart 1610.5-5 (Planning Regulations), notice is hereby given that the Bureau of Land Management (BLM), Grand Staircase-Escalante National Monument intends to prepare an amendment to the Grand Staircase-Escalante National Monument Management Plan (MMP) with an associated environmental impact statement (EIS) in cooperation with the U.S. Forest Service as lead agency. The Dixie National Forest published a Notice of Intent in the Federal Register to initiate this proposal on February 21, 2008, but did not include the BLM's Grand Staircase-Escalante National Monument (GSENM) Notice of Intent into its heading. The publication of this Federal Register notice is to make the public aware that this action also applies to a possible land use plan amendment to the MMP. Discussion of the GSENM amendment was in the body of the original Federal Register notice, but was not evident in the title. The public is now provided a second opportunity to review and provide comments on this possible amendment to the BLM's MMP based on the planning criteria identified in the SUPPLEMENTARY INFORMATION below.

DATES: Public comments should be submitted in writing to the address listed below within 30 days following the publication of this notice in the Federal Register.

ADDRESSES: Send written comments to Paul Chapman, Grand Staircase-Escalante National Monument, Tropic to Hatch 138kV Transmission Line, BLM Project Leader, 190 East Center, Kanab, Utah 84741. E-mail: tropic_to_hatch_transmission_line_eis_comments@fs.fed.us. E-mailed comments must be submitted in MS Word (*.doc) or rich text format (*.rtf) and should include the project name in the subject line. Written comments may also be submitted at the above address during regular business hours of 8 a.m. to 4:30 p.m., Monday-Friday.

Before including your address, phone number, e-mail address, or other personal identifying information in your comment, you should be aware that your entire comment—including your personal identifying information—may be made publicly available at any time. While you can ask us in your comment to withhold your personal identifying information from public review, we cannot guarantee that we will be able to do so. Comments may be published as part of the EIS.

FOR FURTHER INFORMATION CONTACT: Paul Chapman, Grand Staircase-Escalante National Monument project coordinator, 190 East Center, Kanab, Utah 84741 or phone (435) 644-4309.

SUPPLEMENTARY INFORMATION: This Notice of Intent to amend the MMP responds to a proposal from Garkane Energy Cooperative to construct, operate and maintain a 138 kilovolt (kV) electric transmission line in Garfield County, Utah. The project is known as the Garkane Energy Cooperative Tropic to Hatch 138kV Transmission Line and is proposed to cross over USFS, Park Service and/or BLM lands. A plan amendment for BLM's MMP is needed to analyze the proposal which occurs outside of the current utility right-of-way identified in the MMP (February, 2000). The proposal occurs in an area identified as a Primitive Management Zone and Visual Resource Management (VRM) Class II zone as described in the MMP. The construction of transmission lines is not provided for in this zone (Decisions #LAND-7 and VRM-1). In summary, these decisions state: (1) “In the primitive zone, utility rights-of-way will not be permitted. In cases of extreme need for local (not regional) needs and where other alternatives are not available, a plan amendment could be considered for those facilities.” and (2) “Utilizing the results of the visual resource inventory and other resource allocation considerations, 68 percent lands within the Monument will be assigned to VRM Class II and 32 percent of the lands within the Monument will be assigned to VRM Class III, as shown on Map 6.” However, the construction of new utility rights-of-way is provided for in the MMP (Decision #LAND-5 and VRM-1). The proposed plan amendment would change the Management Zone from Primitive to Passage and VRM Class II to III. This amendment would consider a right-of-way corridor within the Passage Zone to accommodate an existing utility right-of-way, the proposed utility right-of-way, and the possibility of additional rights-of-way in the future. Therefore, this corridor would be considered in the amendment to change the Primitive Zone to a Passage Zone and the VRM Class II to a VRM Class III.

The Bureau of Land Management planning regulations (43 CFR 1600) require the preparation of planning criteria to guide the development of resource management plan amendments. Planning criteria ensure that plans are tailored to the identified issues and ensure that unnecessary data collections and analysis are avoided. These general planning criteria will be used to develop the MMP amendment for the Tropic to Hatch Transmission Line Project. The planning criteria primarily remain the same as were presented in the February 21, 2008 Federal Register notice, with a slight change to the first bulleted criteria. This criterion has been broadened to include a right-of-way corridor, instead of only one right-of-way project. The planning criteria are as follows:

• The plan amendment will consider a right-of-way utility corridor currently within a primitive zone adjacent to an existing utility right-of-way.

• The plan amendment will be completed in compliance with the Federal Land Policy and Management Act and all other applicable laws.

• The plan amendment will meet the intent of the Proclamation that established Grand Staircase-Escalante National Monument which protects objects of geological, paleontological, archaeological, biological, and historic values within the Monument.

The lead Federal agency indentified for the proposed project is the Department of Agriculture, Dixie National Forest. The Bureau of Land Management (Kanab Field Office and Grand Staircase-Escalante National Monument) and the National Park Service are cooperating agencies. For more information regarding the proposed project, refer to the Notice of Intent to Prepare an Environmental Impact Statement, published in the Federal Register on February 21, 2008 (Volume 73, Number 35, page 9517-9521).

Dated: March 12, 2009.
Robert G. MacWhorter,
Forest Supervisor, Dixie National Forest.

[FR Doc. E9-6027 Filed 3-26-09; 8:45 am]

BILLING CODE 3410-11-P